DEPARTMENT OF COMMERCE

Bureau of Industry and Security

Emerging Technology and Research Advisory Committee; Notice of Open Meeting

The Emerging Technology and Research Advisory Committee (ETRAC) will meet on August 1, 2014, 8:30 a.m., Room 6087B, at the Herbert C. Hoover Building, 14th Street between Pennsylvania and Constitution Avenues NW., Washington, DC. The Committee advises the Office of the Assistant Secretary for Export Administration on emerging technology and research activities, including those related to deemed exports.

Agenda

Friday, August 1

Open Session:

1. Welcome and Introductions

2. Opening Remarks by the Deputy Assistant Secretary for Export Administration

3. Status Report:

—Export Control Classification Number Review

—Recruitment for ETRAC members

—Deemed export exemption proposal

4. Upcoming Emerging Technologies for review:

—Synthetic biology

—Genetic synthesis

—Space security

—Unmanned Aerial Vehicles

—Fundamental research and public domain

—Text mining

—Additive manufacturing

—Semiconductor Process Design Kits

The open session will be accessible via teleconference to 20 participants on a first come, first serve basis. To the conference, submit inquiries to Ms. Yvette Springer at Yvette.Springer@bis.doc.gov, no later than July 25, 2014.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: July 3, 2014.
Yvette Springer,
Committee Liaison Officer.

[FR Doc. 2014-16116 Filed 7-9-14; 8:45 am]

BILLING CODE 3510-JT-P